OFFICE OF PERSONNEL MANAGEMENT

Privacy Act of 1974; System of Records

AGENCY: Office of the General Counsel, U.S. Office of Personnel Management.

ACTION: Notice of modified system of records.

SUMMARY: In accordance with the Privacy Act of 1974, the Office of Personnel Management (OPM) proposes to modify the current system of records titled, “OPM/Central-7, Litigation and Claims Records.” The system of records is also being retitled to reflect its proper categorization as an OPM Internal system of records. The modifications will expand the range of information covered to include not only litigation and claims matters, but also all other matters worked on by Office of General Counsel (OGC) staff, including, but not limited to, legal advisory work for OPM programs, the Office of the Director, and other Federal Government agencies, as well as records created or received in the course of the office's work on legal issues on behalf of the agency. Accordingly, the system name and number, system purposes, categories of individuals, categories of records, and routine uses are being substantially revised. Additionally, OPM is taking this opportunity to make minor and editorial changes and updates throughout the notice.

DATES: Please submit comments on or before November 6, 2024. This new system is effective upon today's publication in the Federal Register, with the exception of new or modified routine uses, which are effective November 12, 2024.

ADDRESSES: You may submit written comments by one of the following methods:

• Federal eRulemaking Portal: https://www.regulations.gov. Follow the instructions for submitting comments. All submissions received must include the agency name and docket number for this Federal Register document. The general policy for comments and other submissions from members of the public is to make these submissions available for public viewing at https://www.regulations.gov as they are received without change, including any personal identifiers or contact information.

• Mail: General Counsel, Office of the General Counsel, Office of Personnel Management, 1900 E Street NW, Washington, DC 20415-1300.

FOR FURTHER INFORMATION CONTACT: Becky Ronayne, Office of the General Counsel, Office of Personnel Management, 1900 E Street NW, Washington, DC 20415-1300, (202) 606-1700.

SUPPLEMENTARY INFORMATION: OGC is revising this system of records to encompass the full range of matters on which OGC works that are collected and maintained in OGC's matter management and tracking system. Changes and updates are being made throughout the notice, with the most substantial changes being that the System Name and Number will change to “OPM/Internal-28, Litigation, Advisory, and Matter Management Records” and the Purpose(s) of the System, Categories of Individuals, Categories of Records, and Routine Uses sections will be modified to reflect the full scope of matters on which OGC works and the activities associated with such work. In addition, OPM is taking the opportunity to make minor and editorial changes and updates throughout the notice.

In accordance with 5 U.S.C. 552a(r), OPM has provided a report of this modified system of records to the Office of Management and Budget and to Congress. This modified system of records will be included in OPM's inventory of record systems.

Office of Personnel Management.
Kayyonne Marston,
Federal Register Liaison.

SYSTEM NAME AND NUMBER:

OPM/Internal-28, Litigation, Advisory, and Matter Management Records.

SECURITY CLASSIFICATION:

Certain records in the system may be Confidential or Secret but most records are not classified.

SYSTEM LOCATION:

Office of the General Counsel, Office of Personnel Management, 1900 E Street NW, Washington, DC 20415-1300.

SYSTEM MANAGER(S):

General Counsel, Office of the General Counsel, Office of Personnel Management, 1900 E Street NW, Washington, DC 20415-1300.

AUTHORITY FOR MAINTENANCE OF THE SYSTEM:

5 U.S.C. 301; 5 U.S.C. 1103; 5 U.S.C. 1301-1307; 28 U.S.C. 552; 28 U.S.C. 2672; 31 U.S.C. 3721; and Executive Order 10577.

PURPOSE(S) OF THE SYSTEM:

These records are collected and maintained to defend OPM against lawsuits, administrative actions, and to settle administrative claims brought against OPM or OPM employees. In addition, records are collected and maintained to manage the office's work on oversight matters, legal advisory work, and subpoena and Touhy issues, as well as to track and manage the work of the office.

CATEGORIES OF INDIVIDUALS COVERED BY THE SYSTEM:

a. Individuals who make claims under the Military Personnel and Civilian Employees Claims Act of 1964, as amended.

b. Individuals who file civil actions, administrative claims or appeals, or other actions against or concerning OPM, its officials, and employees.

c. Individuals who are parties to actions in which the Government is involved, but for which OPM's role is advisory to another agency.

d. Individuals who filed claims with OPM under the Federal Tort Claims Act, as amended;

e. OPM officials whose records are relevant to oversight matters;

f. Program and agency officials;

g. OGC attorneys and other office staff;

h. Individuals at other government agencies who raise matters requiring OPM assistance, guidance, or input;

i. Organizations, entities, or members of the public who raise matters requiring OPM assistance, guidance, or input.

CATEGORIES OF RECORDS IN THE SYSTEM:

a. Garnishment documents;

b. Administrative appeals;

c. Investigative reports;

d. Retirement records;

e. Official personnel records;

f. Documentation of litigation including complaints, answers, motions, briefs, orders, decisions, supporting documentation, and related materials;

g. Claims and supporting documentation submitted under the Federal Tort Claims Act and the Military Personnel and Civilian Employees Claims Act, together with correspondence and records of settlement;

h. Testing and examination materials;

i. Final administrative and judicial determinations;

j. GAO, Congressional, and other oversight related records;

k. Records related to subpoena and Touhy matters;

l. Legal advisory opinions, correspondence, and related documentation; and

m. Records related to litigation holds.

RECORD SOURCE CATEGORIES:

Information in this system of records is obtained from:

a. The individual on whom the record is maintained;

b. Agency officials and records;

c. Records of administrative and court proceedings including statements of witnesses and documents relating to the proceeding;

d. Law enforcement agencies; and

e. Witnesses.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside OPM as a routine use pursuant to 5 U.S.C. 552a(b)(3) as follows:

a. In an appropriate proceeding before a court, grand jury, or administrative or adjudicative body, when OPM or another agency representing OPM determines that the records are relevant and necessary to the proceeding; or in an appropriate proceeding before an administrative or adjudicative body when the adjudicator determines the records to be relevant to the proceeding.

b. To the Department of Justice when (a) OPM, or any component thereof; (b) any OPM employee in their official capacity; (c) any OPM employee in their individual capacity where the Department of Justice has agreed to represent the employee; or (d) the United States, where OPM determines that litigation is likely to affect OPM or any of its components, is a party to litigation or has an interest in such litigation, and the use of such records by the Department of Justice is deemed by OPM to be relevant and necessary to the litigation.

c. Where a record, either alone or in conjunction with other information, indicates a violation or potential violation of law—criminal, civil, or regulatory in nature—the relevant records may be referred to the appropriate federal, state, local, territorial, tribal, or foreign law enforcement authority or other appropriate entity charged with the responsibility for investigating or prosecuting such violation or charged with enforcing or implementing such law.

d. To a member of Congress from the record of an individual in response to an inquiry made at the request of the individual to whom the record pertains.

e. To the National Archives and Records Administration (NARA) for records management inspections being conducted under the authority of 44 U.S.C. 2904 and 2906.

f. To appropriate agencies, entities, and persons when (1) OPM suspects or has confirmed that there has been a breach of the system of records, (2) OPM has determined that as a result of the suspected or confirmed breach there is a risk of harm to individuals, OPM (including its information systems, programs, and operations), the Federal Government, or national security; and (3) the disclosure made to such agencies, entities, and persons is reasonably necessary to assist in connection with OPM's efforts to respond to the suspected or confirmed breach or to prevent, minimize, or remedy such harm.

g. To another Federal agency or Federal entity, when OPM determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

h. To contractors, grantees, experts, consultants, or volunteers performing or working on a contract, service, grant, cooperative agreement, or other assignment for OPM when necessary to accomplish an agency function related to this system of records.

i. To any source that OGC has reason to believe possesses information regarding a matter within OGC's purview, to the extent necessary to obtain information relevant to an OPM decision or authorized action.

j. To the insurance carrier of an employee, or a claimant against OPM under the Federal Tort Claims Act or the Military Personnel and Civilian Employees Claims Act in order to determine the proper assignment of any liability.

POLICIES AND PRACTICES FOR STORAGE OF RECORDS:

The records in this system of records are stored electronically in an OPM FedRAMP cloud or at an OPM data center. Access to the electronic systems is restricted to authorized users with a need to know.

POLICIES AND PRACTICES FOR RETRIEVAL OF RECORDS:

The records in this system of records are retrieved primarily by name and may also be retrieved by any personal identifier.

POLICIES AND PRACTICES FOR RETENTION AND DISPOSAL OF RECORDS:

Certain records in this system are permanent. Others are maintained and destroyed in accordance with 3.LEG.01 or 3.LEG.02. A records retention schedule will be established with NARA for the unscheduled records in this system and, until it is finalized, those unscheduled records will be treated as permanent.

ADMINISTRATIVE, TECHNICAL, AND PHYSICAL SAFEGUARDS:

Records in this system are protected from unauthorized access and misuse through various administrative, technical, and physical security measures including limiting access to OPM staff, role-based access controls, and encryption. OPM's security measures comply with the Federal Information Security Modernization Act of 2002, as amended by the Federal Information Security Modernization Act of 2014, associated OMB policies, and applicable standards and guidance from the National Institute of Standards and Technology (NIST).

RECORD ACCESS PROCEDURES:

Individuals seeking notification of and access to their records in this system of records may do so by submitting a request in writing to the Office of Personnel Management, Office of the Executive Secretariat, Privacy, and Information Management—FOIA, 1900 E Street NW, Washington, DC 20415-7900 or by emailing foia@opm.gov. Individuals must furnish the following information for their records to be located:

1. Full name, including any former name.

2. Date of birth.

3. Social Security Number.

4. Name and address of employing agency or retirement system.

5. Reasonable specification of the requested information.

6. The address to which the information should be sent.

7. Signature.

Individuals requesting access must also comply with OPM's Privacy Act regulations regarding verification of identity and access to records (5 CFR part 297).

CONTESTING RECORD PROCEDURES:

Individuals wishing to request amendment of records about themselves may do so by writing to the Office of Personnel Management, Office of the Executive Secretariat, Privacy, and Information Management—FOIA, 1900 E Street NW, Washington, DC 20415-7900 or by emailing foia@opm.gov. Requests for amendment of records should include the words “PRIVACY ACT AMENDMENT REQUEST” in capital letters at the top of the request letter; if sending the request by email, include those words in the subject line. Individuals must furnish the following information for their records to be located:

1. Full name, including any former name, and address.

2. Date of birth.

3. Social Security Number.

4. Name and address of employing agency or retirement system.

5. Precise identification of the information to be amended.

6. Signature.

Individuals requesting amendment must also comply with OPM's Privacy Act regulations regarding verification of identity and access to records (5 CFR part 297).

NOTIFICATION PROCEDURES:

See “Record Access Procedure.”

EXEMPTIONS PROMULGATED FOR THE SYSTEM:

When litigation or claim cases occur, information from other systems of records may be incorporated into the case file. In certain instances, OPM may have claimed exemptions under the Privacy Act concerning the incorporated information. To the extent that such exempt material is incorporated into a litigation or claim file, the appropriate exemption 5 U.S.C. 552a(k) (1), (2), (3), (4), (5), (6) or (7) shall also apply to the information as it appears in this system. The exemptions will be only from those provisions of the Act that were claimed for the systems from which the records originated.

The Office of the General Counsel, pursuant to 5 U.S.C. 552a(d)(5), reserves the right to refuse access to information compiled in reasonable anticipation of a civil action or proceeding.

HISTORY:

58 FR 19180 (April 12, 1993); 60 FR 63075 (December 8, 1995); 80 FR 74815 (November 30, 2015); 87 FR 5874 (February 2, 2022).

[FR Doc. 2024-23130 Filed 10-4-24; 8:45 am]

BILLING CODE 6325-48-P